SECURITIES AND EXCHANGE COMMISSION

[Release No. 34-59097; File No. SR-FINRA-2008-057]

Self-Regulatory Organizations; Financial Industry Regulatory Authority, Inc.; Notice of Filing and Immediate Effectiveness of Proposed Rule Change To Update Rule Cross-References and Make Other Various Non-Substantive Technical Changes to FINRA Rules

Correction

In notice document E8-30319 beginning on page 78412 in the issue of Monday, December 22, 2008, make the following correction:

On page 78412, the subject should read as set forth above.

[FR Doc. Z8-30319 Filed 1-21-09; 8:45 am]

BILLING CODE 1505-01-D